DEPARTMENT OF HOMELAND SECURITY

U.S. Customs and Border Protection

[Docket No. USCBP-2022-0044]

Commercial Customs Operations Advisory Committee

AGENCY: U.S. Customs and Border Protection (CBP), Department of Homeland Security (DHS).

ACTION: Committee Management; Notice of Federal Advisory Committee Meeting.

SUMMARY: The Commercial Customs Operations Advisory Committee (COAC) will hold its quarterly meeting on Wednesday, December 7, 2022, in College Park, Maryland. The meeting will be open for the public to attend in person or via webinar. Due to COVID-19 restrictions, the in-person capacity is limited to 100 persons for public attendees.

DATES: The COAC will meet on Wednesday, December 7, 2022, from 1 p.m. to 5 p.m. EST. Please note that the meeting may close early if the committee has completed its business. Registration to attend and comments must be submitted no later than December 2, 2022.

ADDRESSES: The meeting will be held at the National Archives and Records Administration College Park, 8601 Adelphi Road, College Park, MD 20740, on the basement level in Lecture Rooms C, D, and E. All in-person participants are required to show valid government-issued identification to enter the building. For virtual participants, the webinar link and conference number will be provided to all registrants by 5:00 p.m. EST on December 6, 2022. For information or to request special assistance for the meeting, contact Mrs. Latoria Martin, Office of Trade Relations, U.S. Customs and Border Protection, at (202) 344-1440, as soon as possible.

Comments may be submitted by one of the following methods:

• Federal eRulemaking Portal: http://www.regulations.gov. Search for Docket Number USCBP-2022-0044. To submit a comment, click the “Comment” button located on the top-right hand side of the docket page.

• Email: tradeevents@cbp.dhs.gov. Include Docket Number USCBP-2022-0044 in the subject line of the message.

Comments must be submitted in writing no later than December 2, 2022, and must be identified by Docket No. USCBP-2022-0044. All submissions received must also include the words “Department of Homeland Security.” All comments received will be posted without change to https://www.cbp.gov/trade/stakeholder-engagement/coac/coac-public-meetings and www.regulations.gov. Therefore, please refrain from including any personal information you do not wish to be posted. You may wish to view the Privacy and Security Notice which is available via a link on the homepage of www.regulations.gov.

See SUPPLEMENTARY INFORMATION for file formats and other information about electronic filing.

FOR FURTHER INFORMATION CONTACT: Mrs. Latoria Martin, Office of Trade Relations, U.S. Customs and Border Protection, 1300 Pennsylvania Avenue NW, Room 3.5A, Washington, DC 20229, (202) 344-1440; or Ms. Felicia M. Pullam, Designated Federal Officer, at (202) 344-1440 or via email at tradeevents@cbp.dhs.gov.

SUPPLEMENTARY INFORMATION: Notice of this meeting is given under the authority of the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Pre-Registration: Meeting participants may attend either in person or via webinar. All participants must register using one of the methods indicated below:

For members of the public who plan to participate in person, please register online at https://teregistration.cbp.gov/index.asp?w=296 by 5 p.m. EST on December 2, 2022. For members of the public who are pre-registered to attend the meeting in person and later need to cancel, please do so by 5 p.m. EST on December 2, 2022, utilizing the following link: https://teregistration.cbp.gov/cancel.asp?w=296.

For members of the public who plan to participate via webinar, please register online at https://teregistration.cbp.gov/index.asp?w=295 by 5 p.m. EST on December 2, 2022. For members of the public who are pre-registered to attend the meeting via webinar and later need to cancel, please do so by 5 p.m. EST on December 2, 2022, utilizing the following link: https://teregistration.cbp.gov/cancel.asp?w=295.

The COAC is committed to ensuring that all participants have equal access regardless of disability status. If you require a reasonable accommodation due to a disability to fully participate, please contact Mrs. Latoria Martin at (202)-344-1440 as soon as possible.

Please feel free to share this information with other interested members of your organization or association.

To facilitate public participation, we are inviting public comment on the issues the committee will consider prior to the formulation of recommendations as listed in the Agenda section below.

There will be multiple public comment periods held during the meeting on December 7, 2022. Speakers are requested to limit their comments to two minutes or less to facilitate greater participation. Please note that the public comment period for speakers may end before the time indicated on the schedule that is posted on the CBP web page: http://www.cbp.gov/trade/stakeholder-engagement/coac.

Agenda

The COAC will hear from the current subcommittees on the topics listed below:

1. The Next Generation Facilitation Subcommittee will provide updates on its task forces and working groups, including an update on the progress of the 21st Century Customs Framework (21CCF) and E-Commerce Task Forces. The 21CCF Task Force will provide an update on the work addressed this past quarter, which includes discussions with Partner Government Agencies (PGAs) and some of the discussion drafts of trade-related legislative proposals stemming from the 21CCF Task Force and Focus Group. The Automated Commercial Environment (ACE) 2.0 Working Group will provide an update regarding adding new members to the working group to help focus on the identified gaps and potential solutions for ACE 2.0 Modernization. Finally, the One United States Government (1USG) Working Group will provide updates on some of the discussions held this past quarter pertaining to involvement of PGAs in a trusted trader program, with benefits to the trade stakeholders, as well as single window automation with the PGAs.

2. The Rapid Response Subcommittee will provide updates for the Broker Modernization Working Group, Domestic Manufacturing and Production (DMAP) Working Group, and the United States-Mexico-Canada Agreement (USMCA) Working Group. The Broker Modernization Working Group currently meets monthly with the expectation that recommendations will be developed and submitted for consideration at an upcoming COAC public meeting. The DMAP Working Group meets bi-weekly to obtain input from industry stakeholders on trade enforcement areas affecting domestic manufacturers and producers. The USMCA Working Group has reconvened and meets bi-weekly. The focus of this working group is on Chapter 7 of the trade agreement, specifically the trilateral Committee on Trade Facilitation established pursuant to Article 7.24, which is composed of government representatives of each party to the USMCA.

3. The Secure Trade Lanes Subcommittee will provide updates on its four active working groups: the Cross-Border Recognition Working Group, the Export Modernization Working Group, the In-Bond Working Group, and the Trade Partnership and Engagement Working Group. Recommendations for the committee's consideration are anticipated from the Export Modernization Working Group regarding export-related benefits for Customs Trade Partnership Against Terrorism (CTPAT) partners. The In-Bond Working Group plans to present recommendations for the committee's consideration related to the trade community's proposed regulatory revisions/updates to 19 CFR part 18. The Trade Partnership and Engagement Working Group continues to provide an opportunity for input on CTPAT Trade Compliance program development and implementation from trade members with broad subject matter expertise. The Cross-Border Recognition Working Group continues to work on developing recommendations for the committee's consideration regarding potential changes to the current joint inspection program (Unified Cargo Processing) and has continued its discussions on CBP's CTPAT program and Mexico's Authorized Economic Operator program to ensure alignment and compliance with the mutual recognition arrangement signed in 2014.

4. The Intelligent Enforcement Subcommittee will provide updates on the work completed and topics discussed in its working groups. The Antidumping/Countervailing Duty (AD/CVD) Working Group will provide updates regarding its work and discussions on importer compliance with AD/CVD requirements. The Intellectual Property Rights Working Group (IPRWG) will provide recommendations for the committee's consideration relating to the automation of the CBP detention and seizure process and suggested enhancements to the CBP IPR web page. The Bond Working Group will report on the ongoing discussions and status updates for eBond requirements. The Forced Labor Working Group will submit recommendations for the committee's consideration regarding the Uyghur Forced Labor Prevention Act (UFLPA). Meeting materials will be available on November 28, 2022, at: http://www.cbp.gov/trade/stakeholder-engagement/coac/coac-public-meetings.

Dated: November 14, 2022.
Felicia M. Pullam,
Executive Director, Office of Trade Relations.

[FR Doc. 2022-25091 Filed 11-17-22; 8:45 am]

BILLING CODE 9111-14-P